OFFICE OF THE UNITED STATES TRADE REPRESENTATIVES

United States-Chile Free Trade Agreement: 2005 Annual Product Review and Tariff Determinations

AGENCY: Office of the United States Trade Representative.

ACTION: Tariff implementation.

SUMMARY: This notice announces the results of the 2005 annual product review and tariff determinations, regarding Chilean imports of certain fruits, vegetables and juices, set forth by the U.S.-Chile Free Trade Agreement (FTA). This review determines whether these tariff free products, imported during calendar year 2005, have exceeded conditions elaborated in the FTA thus requiring the U.S. to impose duties predetermined by its tariff phase-out schedule. The effective date for the resulting change in tariff treatment is October 1, 2006.

FOR FURTHER INFORMATION CONTACT: Andrew Stephens, Director of Bilateral Affairs at the Office of the United States Trade Representatives (USTR), 1724 F Street, NW., Washington, DC 20508, (202) 395-6127 or Andrew_Stephens@ustr.eop.gov.

SUPPLEMENTARY INFORMATION: The U.S.-Chile FTA authorizes the duty-free importation of designated products provided that import values do not meet or exceed conditions elaborated in Chapter 3, Annex 3.3 of the U.S. General Notes under Note 17 and 18. The conditions are met when products exceed fifty percent of total U.S imports for that specific tariff line or the value of imports from Chile for a specific tariff line exceeds $110 million. If either condition is met, the applied preferential rate shall revert to duties set forth according to the staging categories in the Chapter 3, Annex 3.3 of the FTA Text. The specific products for which these conditions apply and the location of the tariff can be found in Chapter 99, Note 19 and 20 of the 2006 U.S. Harmonized Tariff Schedule. These products include cucumbers, gherkins, strawberries, blackberries, mulberries, currants, peppers, vegetable mixes, certain parts of plants, apple puree, quince puree and pear puree, apricot pulp and certain fruit and vegetable juices.

Since implementation of the U.S.-Chile FTA in 2004, the U.S. Trade Representative's Office has monitored Chilean imports to ensure that the provisions of the FTA have been implemented correctly. The review of imports made during the calendar year 2005 found that total U.S. imports of apple, quince and pear pastes and purees (HTS 2007.99.4800) equaled $2.2 million and imports from Chile accounted for more than $1.2 million of that total. Thus total Chilean imports accounted for 54 percent of the total, exceeding the aforementioned conditions allowed for immediate duty-free imports under U.S.-Chile FTA provisions.

Accordingly, the tariff treatment set forth in subheading 9911.77.11 for goods of Chile, under the terms of general note 26 to the HTS, is deleted, effective with respect to goods that are entered, or withdrawn from warehouse for consumption, on or after October 1, 2006, and the rate of duty set forth in subheading 9911.77.12, together with scheduled staged reductions thereof, shall apply to eligible entries of the subject goods as of October 1, 2006.

Product | Column A HTS | Column B HTS
Apple, quince and pear pastes and purees | 2007.99.48 | 9911.77.11
This now becomes: |  | 9911.77.12
And the applicable duty becomes: 7.5% |  |

Susan C. Schwab,
United States Trade Representative.

[FR Doc. E6-13500 Filed 8-15-06; 8:45 am]

BILLING CODE 3190-W6-P